DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Carolina Coastal Railway, Inc.

[Docket Number FRA-2007-28420]

The Carolina Coastal Railway, Inc. (CLNA) seeks a permanent waiver of compliance from Control of Alcohol and Drug Use, 49 CFR Part 219 Subpart G, which requires a railroad to conduct random alcohol and drug testing. CLNA has less than 16 hours of service employees and previously had no joint operations, but they plan to lease from Norfolk Southern Corporation (NS) nearly 140 miles of track from Raleigh to Plymouth, NC, on June 15, 2007. The CLNA will operate over NS tracks to reach their yards for interchange potentially at Chocowinity, NC, and at Raleigh, NC. CSX Transportation (CSX) will have overhead trackage rights over a 16-mile segment of the track, although there will be temporal separation since CLNA's operation will be during daytime hours and CSX's operations will be restricted to nighttime hours.

Interested parties are invited to participate in these proceedings by submitting written views, data, or comments. FRA does not anticipate scheduling a public hearing in connection with these proceedings since the facts do not appear to warrant a hearing. If any interested party desires an opportunity for oral comment, they should notify FRA in writing before the end of the comment period and specify the basis for their request.

All communications concerning these proceedings should identify the appropriate docket number (e.g., Waiver Petition Docket Number FRA-2007-28420) and must be submitted to the Docket Clerk, DOT Central Docket Management Facility, 1200 New Jersey Avenue, SE., West Building Ground Floor, Room W12-140, Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Issued in Washington, DC on June 28, 2007.
Grady C. Cothen, Jr.,
Deputy Associate Administrator for Safety Standards and Program Development.

[FR Doc. E7-13028 Filed 7-3-07; 8:45 am]

BILLING CODE 4910-06-P